DEPARTMENT OF HEALTH AND HUMAN SERVICES

Administration for Children and Families

[CFDA Number: 93.676]

Announcement of the Award of Three Urgent Single-Source Grants To Support Shelter Care for Unaccompanied Alien Children

AGENCY: Office of Refugee Resettlement, Administration for Children and Families, Department of Health and Human Services.

ACTION: The Office of Refugee Resettlement (ORR) announces the award of three urgent single-source grants from the Unaccompanied Alien Children's Program to KidsPeace in Bethlehem, PA, St. Peter and Joseph Children's Home in San Antonio, TX, and Seton Home in San Antonio, TX.

SUMMARY: The Administration for Children and Families (ACF), Office of Refugee Resettlement (ORR) announces the award of three urgent single awards to the following organizations.

Organization | Location | Amount
KidsPeace | Bethlehem, PA | $3,105,096
St. Peter and Joseph Children's Home | San Antonio, TX | 1,630,000
Seton Home | San Antonio, TX | 650,000

These urgent awards will support the expansion of bed capacity and supportive services to meet the number of unaccompanied alien children referrals from the Department of Homeland Security (DHS). The funding program is mandated by section 462 of the Homeland Security Act to ensure appropriate placement of all referrals from the DHS. The program is tied to DHS apprehension strategies and to the sporadic numbers of border crossers.

DATES: The period of support provided by these awards is April 15, 2013 through September 30, 2013.

FOR FURTHER INFORMATION CONTACT: Jallyn Sualog, Acting Director, Division of Children's Services, Office of Refugee Resettlement, 901 D Street SW., Washington, DC 20447, Telephone (202) 401-4997. Email: jallyn.sualog@acf.hhs.gov.

SUPPLEMENTARY INFORMATION: Since the beginning of FY 2013, the Unaccompanied Alien Children (UAC) program has seen a dramatic increase in the number of DHS referrals. The influx of border crossers referred by DHS has grown beyond anticipated rates resulting in the need for a significant increase in the number of shelter beds and supportive services for the children.

The UAC program has specific requirements for the provision of services to unaccompanied alien children. The named organizations were chosen for the noncompetitive awards because they already have the infrastructure, licensing, and appropriate levels of trained staff to meet service requirements and the urgent need for expanded services in order to respond to the increased numbers of unaccompanied children. The immediate provision of services will alleviate the buildup of children held in border patrol stations while awaiting placement in shelter care.

Statutory Authority: Section 462 of the Homeland Security Act, (6 U.S.C. 279) and sections 235(c) and 235(d) of the William Wilberforce Trafficking Victims Protection Reauthorization Act of 2008, (8 U.S.C. 1232(c) and 1232(d)).

Eskinder Negash,
Director, Office of Refugee Resettlement.

[FR Doc. 2013-10311 Filed 4-30-13; 8:45 am]

BILLING CODE 4184-45-P